DEPARTMENT OF LABOR

Employment and Training Administration

[TA-W-50,204]

Kokusai Semiconductor Equipment Corporation, Billerica Facility, Billerica, MA; Notice of Revised Determination on Reconsideration

By application of April 8, 2003, a petitioner requested administrative reconsideration regarding the Department's Negative Determination Regarding Eligibility to Apply for Worker Adjustment Assistance, applicable to the workers of the subject firm.

The initial investigation resulted in a negative determination issued on March 11, 2003, based on the finding that imports of vertical diffusion furnaces (200mm and 300mm wafers) did not contribute importantly to worker separations at the subject plant and no shift of production to a foreign source occurred. The denial notice was published in the Federal Register on March 26, 2003 (68 FR 14706).

Upon further review of the initial investigation, in the reconsideration process, it was revealed that subject firm customer(s) increased their import purchases of semiconductor testing equipment during the relevant period. It was further revealed that U.S. aggregate imports of electric furnaces and ovens for diffusion, oxidation or annealing of semiconductor wafers increased significantly during the relevant period.

Conclusion

After careful review of the additional facts obtained on reconsideration, I conclude that increased imports of articles like or directly competitive with those produced at Kokusai Semiconductor Equipment Corporation, Billerica Facility, Billerica, Massachusetts, contributed importantly to the declines in sales or production and to the total or partial separation of workers at the subject firm. In accordance with the provisions of the Act, I make the following certification:

All workers of Kokusai Semiconductor Equipment Corporation, Billerica Facility, Billerica, Massachusetts, who became totally or partially separated from employment on or after November 16, 2001 through two years from the date of this certification, are eligible to apply for adjustment assistance under Section 223 of the Trade Act of 1974.

Signed in Washington, DC, this 27th day of October, 2003.
Elliott S. Kushner,
Certifying Officer, Division of Trade Adjustment Assistance.

[FR Doc. 03-29544 Filed 11-25-03; 8:45 am]

BILLING CODE 4510-30-P